DEPARTMENT OF COMMERCE

National Oceanic and Atmospheric Administration

[Docket No. 021114275-3052-02]

Joint Hurricane Testbed (JHT) Opportunities for Transfer of Research and Technology Into Tropical Cyclone Analysis and Forecast Operations

AGENCY: National Oceanic and Atmospheric Administration, Department of Commerce.

ACTION: Notice.

SUMMARY: The National Oceanic and Atmospheric Administration (NOAA) publishes this notice to notify applicants of the due date for the submission of full proposals and to amend the eligibility criteria to allow Federal agencies to submit proposals solicited under its January 3, 2003, Federal Register notice (68 FR 359) entitled Joint Hurricane Testbed (JHT) Opportunities for Transfer of Research and Technology into Tropical Cyclone Analysis and Forecast Operations.

DATES: Full proposals must be received at the Tropical Prediction Center in Miami, Florida no later than 5 p.m. e.d.t. on April 10, 2003.

ADDRESSES: Full proposals must be submitted to: Dr. Jiann-Gwo Jiing, Director, Joint Hurricane Testbed, Tropical Prediction Center, 11691 SW 17th Street, Miami, FL 33165.

FOR FURTHER INFORMATION CONTACT: To obtain an application package or for further information, contact: Karen King, DOC/NOAA, Office of Weather & Air Quality Research, Routing Code R/WA, 1315 East-West Highway, Room 11216, Silver Spring, MD 20910, phone (301) 713-0460 ext. 202, email Karen.King@noaa.gov.

SUPPLEMENTARY INFORMATION: The National Oceanic and Atmoshperic Administration (NOAA) publishes this notice to amend the eligibility criteria and to provide additional information concerning the due date for full proposals solicited under its January 3, 2003, Federal Register notice (68 FR 359) entitled Joint Hurricane Testbed (JHT) Opportunities for Transfer of Research and Technology into Tropical Cyclone Analysis and Forecast Operations.

Update

In the January 3, 2003, Federal Register notice (68 FR359) announcing Joint Hurricane Testbed (JHT) funding opportunities, the “DATES” section on page 360 stated that “PIs (Principal Investigators) will be informed of the submittal deadline for full proposals in the response letter” (to be sent from NOAA by March 4, 2003, in response to submitted preapplications). Further, section VIII of that notice indicated that PIs who do not receive a response letter with an invitation to submit a full proposal are not precluded from submitting a full proposal. Finally, the notice stated that applicants who did not submit a preapplication may nevertheless submit a full proposal.

The deadline for submission of full proposals has now been established. Full proposals must be received at the Tropical Prediction Center in Miami, Florida (see ADDRESSES) no later than 5 p.m. e.d.t. April 10, 2003. Full proposals received after the submission deadline will be returned without review. In submitting full proposals, applicants must adhere to all requirements stated in the JHT Federal Register notice of January 3, 2003. Full proposals from non-Federal applicants must be submitted along with completed, required forms that are contained in the standard NOAA Grants and Cooperative Agreement Package. to obtain this package, and for further information, please see the individual listed under the heading FOR FURTHER INFORMATION CONTACT. Federal applicants do not need to request this package and are not required to complete the forms it contains.

Restatement of Section VI.—Eligibility of the JHT Federal Register Notice of January 3, 2003

The eligibility criteria of the original solicitation are amended to allow Federal agencies to submit applications under this program. The statement published in section VI of the notice is replaced with the following revised statement:

Eligible applicants are institutions of higher education, other nonprofits, commercial organizations, international organizations, state, local and Indian tribal governments, and Federal agencies. Applications from non-Federal and Federal applicants will be competed against each other. Proposals selected for funding from non-Federal applicants will be funded through a cooperative agreement under the terms of the JHT Federal Register notice of January 3, 2003. Funding for contractual arrangements for services and products for delivery to NOAA are not available under this notice. Proposals selected for funding from NOAA scientists shall be effected by an intra-agency fund transfer. Proposals selected for funding from a non-NOAA Federal agency will be funded through a inter-agency transfer. Please Note: Before non-NOAA Federal applicants may be funded, they must demonstrate that they have legal authority to receive funds from another Federal agency in excess of their appropriation. Because this announcement is not proposing to procure goods or services from applicants, the Economy Act (31 U.S.C. 1535) is not an appropriate legal basis.

Dated: March 5, 2003.
Louisa Koch,
Deputy Assistant Administrator, Office of Oceanic and Atmospheric Research, National Oceanic and Atmospheric Administration.

[FR Doc. 03-5650 Filed 3-10-03; 8:45 am]

BILLING CODE 3510-KD-M